DEPARTMENT OF THE INTERIOR

National Park Service

[N6750; NPS-WASO-NAGPRA-NPS0041745; PPWOCRADN0-PCU00RP14.R50000]

Notice of Intended Repatriation: San Francisco State University, San Francisco, CA

AGENCY: National Park Service, Interior.

ACTION: Notice.

SUMMARY: In accordance with the Native American Graves Protection and Repatriation Act (NAGPRA), the San Francisco State University (SF State) NAGPRA Program intends to repatriate certain cultural items that meet the definition of unassociated funerary objects and that have a cultural affiliation with the Indian Tribes or Native Hawaiian organizations in this notice.

DATES: Repatriation of the cultural items in this notice may occur on or after February 12, 2026.

ADDRESSES: Send additional, written requests for repatriation of the cultural items in this notice to Alexander Dursin, San Francisco State University NAGPRA Program, 1600 Holloway Avenue, San Francisco, CA 94132, email alexanderdursin@sfsu.edu.

SUPPLEMENTARY INFORMATION: This notice is published as part of the National Park Service's administrative responsibilities under NAGPRA. The determinations in this notice are the sole responsibility of the SF State NAGPRA Program, and additional information on the determinations in this notice, including the results of consultation, can be found in the summary or related records. The National Park Service is not responsible for the determinations in this notice.

Abstract of Information Available

A total of 256 cultural items/lots have been requested for repatriation. The 256 objects/lots described in this notice are reasonably believed to have been placed intentionally with or near individual human remains at the time of death or later as part of the death rite or ceremony of a Native American culture according to the Native American traditional knowledge of a lineal descendant, Indian Tribe, or Native Hawaiian organization. The items include 116 lots of historic glass, 43 lots of shells, 22 lots of faunal remains, 17 lots of mixed items, 15 lots of rocks, 10 lots of carbon samples/charcoal, nine lots of bird bones, eight lots of chert, six lots of fish bones, two lots of lithics, one lot containing a non-human mammal bone, one lot of obsidian, and one lot containing fragments of a turtle shell, three lots (in boxes) of various ground stones, and two large mortars.

Between 1850 and 1855, four burial sites, including over 10,000 objects of cultural patrimony or sacred objects, were removed from CA-MRN-17, on De Silva Island, in Marin County, CA, by San Francisco State University under the directives of Gary W. Pahl, a Professor at SF State. Objects taken from CA-MRN-17 were jointly curated by SF State and Sonoma State University Anthropological Studies Center until 1998, when all objects from CA-MRN-17 were transferred to SF State. All Ancestors and Associated Funerary Objects from this site were repatriated to Federated Indians of Graton Rancheria (FIGR), California in 2008 and 2012 (see Notice of Inventory Completion published in Federal Register on May 23, 2008 (E8-11569); Notice of Inventory Completion published in Federal Register on October 1, 2012 (2012-24091); and Notice of Intended Repatriation published in Federal Register on September 28, 2012 (2012-23920). The remainder of the items were not repatriated, as they were believed to not be subject to NAGPRA at the time. New evidence and determinations have qualified these items to be repatriated under NAGPRA.

Determinations

The SF State NAGPRA Program has determined that:

• The 256 items/lots described in this notice are reasonably believed to have been placed intentionally with or near human remains, and are connected, either at the time of death or later as part of the death rite or ceremony of a Native American culture according to the Native American traditional knowledge of a lineal descendant, Indian Tribe, or Native Hawaiian organization. These items/lots been identified by a preponderance of the evidence as related to human remains, specific individuals, or families, or removed from a specific burial site or burial area of an individual or individuals with cultural affiliation to an Indian Tribe or Native Hawaiian organization.

• There is a connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 12, 2026. If competing requests for repatriation are received, the SF State NAGPRA Program must determine the most appropriate requestor prior to repatriation. Requests for joint repatriation of the cultural items are considered a single request and not competing requests. The SF State NAGPRA Program is responsible for sending a copy of this notice to the Indian Tribes and Native Hawaiian organizations identified in this notice and to any other consulting parties.

Authority: Native American Graves Protection and Repatriation Act, 25 U.S.C. 3004 and the implementing regulations, 43 CFR 10.9.

Dated: January 5, 2026.
Melanie O'Brien,
Manager, National NAGPRA Program.

[FR Doc. 2026-00459 Filed 1-12-26; 8:45 am]

BILLING CODE 4312-52-P